DEPARTMENT OF THE INTERIOR

Fish and Wildlife Service

50 CFR Part 17

RIN 1018-AG13

Endangered and Threatened Wildlife and Plants; Reopening of Public Comment Period on Proposed Critical Habitat for Wintering Piping Plovers

AGENCY: Fish and Wildlife Service, Interior.

ACTION: Proposed rule; reopening of public comment period.

SUMMARY: We, the U.S. Fish and Wildlife Service, provide notice that the public comment period on the proposed rule to designate critical habitat for wintering piping plovers (Charadrius melodus) is hereby reopened. Comments submitted during the prior comment periods need not be resubmitted as they will be incorporated into the public record and will be fully considered in the final determination on the proposal.

DATES: The original comment period, scheduled to close on September 5, 2000, was extended until November 24, 2000. The comment period is now reopened and will close on March 1, 2001. Comments from all interested parties must be received by the closing date. Any comments that are received after the closing date may not be considered in the final decision on this proposal.

ADDRESSES: Written comments may be submitted to the Field Supervisor, Ecological Services Field Office, c/o TAMUCC, Box 338, 6300 Ocean Drive, Corpus Christi, Texas 78412; by facsimile at (361) 994-8262; or by email at winterplovercomments@fws.gov. Comments and materials received will be available for public inspection, by appointment, during normal business hours at the above address.

FOR FURTHER INFORMATION CONTACT: Allan Strand, Acting Field Supervisor, at the above address (telephone 361/994-9005).

SUPPLEMENTARY INFORMATION:

Background

The piping plover (Charadrius melodus) is a small North American shorebird that breeds in the Great Plains, Great Lakes, and upper Atlantic Coast states, and its winter areas include the lower Atlantic and Gulf coasts of the United States. The piping plover on its wintering areas is listed as a threatened species under the Endangered Species Act of 1973, as amended.

The U.S. Fish and Wildlife Service proposed critical habitat for wintering piping plovers on July 6, 2000 (65 FR 41782), and published extensions of the comment period on August 30, 2000 (65 FR 52691), and October 27, 2000 (65 FR 64414). The proposal includes 146 areas along the coasts of North Carolina, South Carolina, Georgia, Florida, Alabama, Mississippi, Louisiana, and Texas. This includes approximately 2,734 kilometers (1,699 miles) of shoreline along the Gulf and Atlantic coasts and along margins of interior bays, inlets, and lagoons.

Section 4(b)(2) of the Endangered Species Act requires that we designate or revise critical habitat based upon the best scientific and commercial data available and after taking into consideration the economic impact, and any other relevant impact, of specifying any particular area as critical habitat. We may exclude an area from critical habitat if we determine that the benefits of excluding the area outweigh the benefits of including the area as critical habitat, provided such exclusion will not result in the extinction of the species. Consequently, we have prepared and made available a draft economic analysis concerning the proposed critical habitat designation, which is available for review and comment at the above Internet and mailing addresses.

Public Comments Solicited

Pursuant to regulations at 50 CFR 424.16(c)(2), we may extend or reopen a public comment period on a proposal to designate critical habitat upon finding that there is good cause to do so. Since the close of the original comment period on proposed designation of critical habitat for wintering piping plovers, we have received a number of comments which provide information relevant to the proposed designation. In the interest of considering the best scientific and commercial information available in making our final determination on the proposal, we find that good cause exists to reopen the public comment period on this proposed action.

We solicit comments on all aspects of the critical habitat proposal, including the draft economic analysis. Our final determination on the proposed critical habitat will take into consideration comments and any additional information received by the date specified above. All previous comments and information submitted during the comment period need not be resubmitted. Written comments may be submitted to the Field Supervisor at the above address.

Author

The primary author of this notice is Steve Spangle, U.S. Fish and Wildlife Service, P.O. Box 1306, Albuquerque, New Mexico 87103.

Authority: The authority for this action is the Endangered Species Act of 1973 (16 U.S.C. 1531 et seq.).

Dated: February 15, 2001.
Frank S. Shoemaker, Jr.,
Acting Regional Director, Region 2, Fish and Wildlife Service.

[FR Doc. 01-4430 Filed 2-21-01; 8:45 am]

BILLING CODE 4310-55-P